DEPARTMENT OF TRANSPORTATION

Federal Aviation Administration

RTCA Special Committee 218/Future ADS-B/TCAS Relationships

AGENCY: Federal Aviation Administration (FAA), DOT

ACTION: Notice of RTCA Special Committee 218/Future ADS-B/TCAS Relationships

SUMMARY: The FAA is issuing this notice to advise the public of a meeting of RTCA Special Committee 218/Future ADS-B/TCAS Relationships

DATES: The meeting will be held June 17-18, 2008, from 9 a.m.-5 p.m.

ADDRESSES: The meeting will be held at RTCA, Inc., 1828 L Street, NW., Suite 805, Washington, DC 20036.

FOR FURTHER INFORMATION CONTACT: (1) RTCA Secretariat, 1828 L Street, NW., Suite 805, Washington, DC 20036; telephone (202) 833-9339; fax (202) 833-9434; Web site http://www.rtca.org.

SUPPLEMENTARY INFORMATION: Pursuant to section 10(a)(2) of the Federal Advisory Committee Act (P.L. 92-463, 5 U.S.C., Appendix 2), notice is hereby given for a Special Committee 218/ Future ADS-B/TCAS Relationships meeting.

• June 17-18:

• Open Plenary (Welcome, Introductions, Administrative Remarks, Agenda Review);

• RTCA Functional Overview;

• Industry Activities Related to ADS-B/TCAS—Review;

• Committee Scope—Terms of Reference:

• Presentation, Discussion, Recommendations;

• European I EUROCAE Review;

• Organization of Work, Assign Tasks and Workgroup;

• Presentations, Discussions, Recommendations;

• Assignment of Responsibilities;

• Consider/Review Liaison with Other Active Committees;

• Closing Session (Next Meeting Dates, Location and Agenda for Next meeting, Other Business).

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on May 12, 2008.
Francisco Estrada C.,
RTCA Advisory Committee.

[FR Doc. E8-11272 Filed 5-21-08; 8:45 am]

BILLING CODE 4910-13-M